DEPARTMENT OF TRANSPORTATION

Federal Aviation Administration

[Policy Statement No. ANM-03-117-09]

Guidance for Demonstration of System, Hardware, and Software Development Assurance Levels on Transport Category Airplanes

AGENCY: Federal Aviation Administration (FAA), DOT.

ACTION: Notice of final policy.

SUMMARY: The Federal Aviation Administration (FAA) announces the availability of policy on guidance for demonstration of software, hardware, and software development assurance levels on transport category airplanes.

DATES: The policy was issued by the Transport Airplane Directorate on January 15, 2004.

FOR FURTHER INFORMATION CONTACT: Linh Le, Federal Aviation Administration, Transport Airplane Directorate, Transport Standards Staff, Safety Management Branch, ANM-117, 1601 Lind Avenue SW., Renton, WA 98055-4056; telephone (425) 227-1105; fax (425) 227-1100; e-mail: linh.le@faa.gov.

SUPPLEMENTARY INFORMATION:

Discussion of Comments

A notice of proposed policy was published in the Federal Register on February 25, 2003 (68 FR 8794). Six commenters responded to the request for comments.

Background

The policy clarifies FAA certification policy on determination of system development assurance levels, hardware design assurance levels, and software levels for transport category airplanes.

The policy, as well as the disposition of public comments received, is available on the Internet at the following address: http://www.airweb.faa.gov/rgl. If you do not have access to the Internet, you can obtain a copy of the policy by contacting the person listed under FOR FURTHER INFORMATION CONTACT.

Issued in Renton, Washington, on January 15, 2004.
Ali Bahrami,
Acting Manager, Transport Airplane Directorate, Aircraft Certification Service.

[FR Doc. 04-2201 Filed 2-2-04; 8:45 am]

BILLING CODE 4910-13-M